LEGAL SERVICES CORPORATION

Sunshine Act Meeting of the Board of Directors Finance Committee

Time and Date:The Finance Committee of the Legal Services Corporation Board of Directors will meet on September 15, 2003. The meeting will begin at 9:30 a.m. and continue until the Committee concludes its agenda.

Location: The Melrose Hotel, 2430 Pennsylvania Avenue, NW, Washington, DC 20037.

Status of Meeting: Open.

Matters to be Considered:

1. Approval of agenda.

2. Approval of the minutes of the Committee's meeting of June 27, 2003.

3. Report on LSC's Consolidated Operating Budget (COB), Expenses, and Other Funds Available through July 31, 2003.

4. Report on LSC's budget projected operating expenses for April 1-June 30, 2003.

5. Consider and act on proposed Internal Budgetary Adjustments and COB Reallocations for April 1-June 30, 2003.

6. Report on LSC's budget projected operating expenses for July 1-September 30, 2003.

7. Consider and act on proposed Internal Budgetary Adjustments and COB Reallocations for July 1-September 30, 2003.

8. Consider and act on LSC's FY 2004 Temporary Operating Budget.

9. Public comment on LSC's FY 2005 Budget Mark.

10. LSC's Management recommendation on LSC's FY 2005 Budget Mark.

11. Consider and act on LSC's FY 2005 Budget Mark.

12. Consider and act on fixing the LSC President's salary to Level V of the Federal Government's Executive Schedule, thereby allowing the President's salary to adjust automatically as Level V adjusts.

13. Consider and act on other business.

14. Public comment.

15. Consider and act on adjournment of meeting.

FOR FURTHER INFORMATION CONTACT: Victor M. Fortuno, Vice President for Legal Affairs, General Counsel & Corporate Secretary, at (202) 295-1500.

Special Needs: Upon request, meeting notices will be made available in alternate formats to accommodate visual and hearing impairments. Individuals who have a disability and need an accommodation to attend the meeting may notify Elizabeth S. Cushing, at (202) 295-1500.

Dated: September 5, 2003.
Victor M. Fortuno,
Vice President for Legal Affairs, General Counsel & Corporate Secretary.

[FR Doc. 03-23120 Filed 9-5-03; 4:13 pm]

BILLING CODE 7050-01-P